DEPARTMENT OF STATE

[Public Notice: 10679]

U.S. Department of State Advisory Committee on Private International Law (ACPIL): Public Meeting on Family Law

The Office of the Assistant Legal Adviser for Private International Law, Department of State, gives notice of a public meeting to discuss a draft Guide to Good Practice on Article 13(b) of the Hague Abduction Convention. The public meeting will take place on February 27, from 12 p.m. until 5 p.m. EDT. This is not a meeting of the full Advisory Committee.

At its 2012 annual meeting, the Council on General Affairs and Policy of the Hague Conference on Private International Law established a Working Group to develop a Guide to Good Practice on the application of Article 13(b) of the 1980 Hague Convention on the Civil Aspects of International Child Abduction. The Hague Conference has provided multiple draft texts. The current text can be provided to public meeting participants. It is anticipated that this text will be finalized at the 2019 meeting of the Council on General Affairs and policy, which will convene on March 5.

The purpose of the public meeting is to obtain the views of concerned stakeholders on the current draft Guide to Good Practice. Those who cannot attend but wish to comment are welcome to do so by email to Michael Coffee at coffeems@state.gov.

Time and Place: The meeting will take place on February 27, from 12 p.m. until 5 p.m. EDT in Room 240, South Building, State Department Annex 4A, Washington, DC 20037. Participants should plan to arrive at the Navy Hill gate on the west side of 23rd Street NW, at the intersection of 23rd Street NW and D Street NW by 11:30 a.m. for visitor screening. If you are unable to attend the public meeting and would like to participate from a remote location, teleconferencing will be available.

Public Participation: This meeting is open to the public, subject to the capacity of the meeting room. Access to the building is strictly controlled. For pre-clearance purposes, those planning to attend should email pil@state.gov providing full name, address, date of birth, citizenship, driver's license or passport number, and email address. This information will greatly facilitate entry into the building. A member of the public needing reasonable accommodation should email pil@state.gov not later than February 20, 2019. Requests made after that date will be considered, but might not be able to be fulfilled. If you would like to participate by telephone, please email pil@state.gov to obtain the call-in number and other information.

You must notify pil@state.gov of your intention to participate in the meeting, either in person or by telephone, to receive an agenda for the meeting as well as the current draft of the Guide to Good Practice.

Data from the public is requested pursuant to Public Law 99-399 (Omnibus Diplomatic Security and Antiterrorism Act of 1986), as amended; Public Law 107-56 (USA PATRIOT Act); and Executive Order 13356. The purpose of the collection is to validate the identity of individuals who enter Department facilities.

The data will be entered into the Visitor Access Control System (VACS-D) database. Please see the Security Records System of Records Notice (State-36) at https://foia.state.gov/_docs/SORN/State-36.pdf for additional information.

Michael S. Coffee,
Attorney-Adviser, Office of Private International Law, Office of the Legal Adviser, U.S. Department of State.

[FR Doc. 2019-02778 Filed 2-19-19; 8:45 am]

BILLING CODE 4710-08-P